Title 3—

The President

Proclamation 11009 of February 6, 2026

Unleashing American Commercial Fishing in the Atlantic

By the President of the United States of America

A Proclamation

On September 15, 2016, pursuant to the Antiquities Act (54 U.S.C. 320301), President Obama issued Proclamation 9496 (Northeast Canyons and Seamounts Marine National Monument), which designated approximately 4,913 square miles of waters and submerged lands where the Atlantic Ocean meets the continental shelf as the Northeast Canyons and Seamounts Marine National Monument.

On June 5, 2020, I issued Proclamation 10049 (Modifying the Northeast Canyons and Seamounts Marine National Monument), to remove the restrictions on commercial fishing within the Northeast Canyons and Seamounts Marine National Monument. In that proclamation, I noted that many of the fish species that Proclamation 9496 identifies are highly migratory and not unique to the monument. I further noted that a host of other laws enacted after the Antiquities Act provide specific protection for other plant and animal resources both within and outside the monument.

Subsequently, on October 8, 2021, President Biden issued Proclamation 10287 (Northeast Canyons and Seamounts Marine National Monument), finding that commercial fishing activity has the potential to significantly degrade the monument's objects of historic and scientific interest and reinstating the prohibitions on commercial fishing within the Northeast Canyons and Seamounts Marine National Monument.

As explained herein, following further consideration of the nature of the objects identified in Proclamation 9496 and the protection of those objects already provided by Federal law, I find that appropriately managed commercial fishing would not put the objects of historic and scientific interest that the monument protects at risk.

All of the fish species described in Proclamation 9496 are subject to Federal protections under existing laws and executive department and agency management designations. For example, the Magnuson-Stevens Fishery Conservation and Management Act (16 U.S.C. 1801 et seq.) (Magnuson-Stevens), regulates commercial fishing to ensure long-term biological and economic sustainability for our Nation's marine fisheries, taking into account the protection of associated marine ecosystems. Magnuson-Stevens establishes regional fishery management councils, supervised by the Secretary of Commerce in coordination with the States and affected stakeholders, that develop fishery management plans to regulate our Nation's fisheries, using the best available science and observing strict conservation and management requirements. Magnuson-Stevens requires a similar process of scientific fisheries management for highly migratory species, including the tunas referenced in Proclamation 9496. In addition, Magnuson-Stevens provides that fishery management plans may include, among other measures, management measures to conserve target and non-target species and habitats, including measures to protect deep-sea corals. Moreover, many of the fish species that Proclamation 9496 identifies are highly migratory and not unique to the monument.

A host of other laws enacted after the Antiquities Act provide specific protection for other plant and animal resources (including coral species) both within and outside the monument. These laws include the Endangered Species Act (16 U.S.C. 1531 et seq.), the Migratory Bird Treaty Act (16 U.S.C. 703-712), the National Wildlife Refuge System Administration Act (16 U.S.C. 668dd-668ee), the Refuge Recreation Act (16 U.S.C. 460k et seq.), the Marine Mammal Protection Act (16 U.S.C. 1361 et seq.), the Clean Water Act (33 U.S.C. 1251 et seq.), the Oil Pollution Act (33 U.S.C. 2701 et seq.), the National Marine Sanctuaries Act (16 U.S.C. 1431 et seq.), and Title I of the Marine Protection, Research and Sanctuaries Act (33 U.S.C. 1401 et seq.) (Ocean Dumping Act). For example, the Endangered Species Act generally prohibits the taking of fish and wildlife species listed as endangered, and also generally ensures that Federal actions, including fisheries management, are not likely to jeopardize the continued existence of any such species. The Marine Mammal Protection Act provides protections for marine mammals, and prohibits their taking, subject to some exceptions. Numerous other statutes, including the Clean Water Act, the Oil Pollution Act, and the Ocean Dumping Act, address both land-based and ocean-based sources of pollution and help ensure that water quality continues to support plankton and other pelagic organisms.

After further consideration of the nature of the objects identified in Proclamation 9496 and the protection of those objects already provided by Magnuson-Stevens and other applicable legal authorities, I find, for all the reasons previously stated in Proclamation 10049 and provided herein, that a prohibition on commercial fishing is not, at this time, necessary for the proper care and management of the Northeast Canyons and Seamounts Marine National Monument or the objects of historic or scientific interest therein.

WHEREAS, Proclamation 9496 designated the Northeast Canyons and Seamounts Marine National Monument in the Atlantic Ocean and reserved approximately 4,913 square miles of water and submerged lands in and around certain deep-sea canyons and seamounts situated upon lands and interests in lands owned or controlled by the Federal Government as the smallest area compatible with the proper care and management of objects of historic and scientific interest;

WHEREAS, Proclamation 10049 modified the conditions of the Northeast Canyons and Seamounts Marine National Monument to allow commercial fishing activities;

WHEREAS, Proclamation 10287 modified the conditions of the Northeast Canyons and Seamounts Marine National Monument to prohibit commercial fishing activities;

WHEREAS, for the reasons set forth in Proclamation 10049 and provided herein, I find that removing the restrictions on commercial fishing set forth in Proclamation 9496 and Proclamation 10287 to allow for well-regulated commercial fishing use, in accordance with and pursuant to existing statutory authorities, is in the public interest and that the objects in the monument can be, and are currently, protected pursuant to carefully tailored regulation and management under existing Federal law;

NOW, THEREFORE, I, DONALD J. TRUMP, President of the United States of America, by the authority vested in me by the Constitution and the laws of the United States, including section 320301 of title 54, United States Code, hereby proclaim that Proclamation 10287 is revoked and the Northeast Canyons and Seamounts Marine National Monument shall be managed in accordance with Proclamation 10049, which allows for commercial fishing within the monument.

To the extent any provision of Proclamation 10049 is inconsistent with Proclamation 9496, the terms of this proclamation and Proclamation 10049 shall govern.

If any provision of this proclamation, including its application to a particular parcel of land, is held to be invalid, the remainder of this proclamation and its application to other parcels of land shall not be affected thereby.

IN WITNESS WHEREOF, I have hereunto set my hand this sixth day of February, in the year of our Lord two thousand twenty-six, and of the Independence of the United States of America the two hundred and fiftieth.

[FR Doc. 2026-02812

Filed 2-10-26; 11:15 am]

Billing code 3395-F4-P